DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below including the party seeking relief, the regulatory provisions involved, the nature of the relief being requested, and the petitioner's arguments in favor of relief.

Long Island Rail Road

[Docket Number FRA-2000-8588]

Long Island Rail Road (LIRR) seeks a waiver of compliance with the Safety Appliance Safety Standards, 49 CFR part 231.14, which requires that sill steps be mounted utilizing mechanical fasteners. They request that the waiver be granted for one hundred twenty-one bi-level passenger coaches and twenty-three bi-level control car locomotives manufactured by Kawasaki. The waiver, if granted, would allow sill steps located at the four corners and two located on each side of the equipment, at the side door locations, to be mechanical fastened to a bracket that is welded to a tubular side sill. The railroad states that the equipment is a center sill-less design and is supported by two tubular side sills and to mechanically fasten the step to the car would require drilling the sill which would weaken it.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2000-8588) and must be submitted to the Docket Clerk, DOT Central Docket Management Facility, Room Pl-401, Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC on April 27, 2001.
Grady C. Cothen, Jr.,
Deputy Associate Administrator for Safety Standards and Program Development.

[FR Doc. 01-11084 Filed 5-2-01; 8:45 am]

BILLING CODE 4910-06-P